DEPARTMENT OF AGRICULTURE

Forest Service

Shoshone National Forest, Wyoming, Land Management Plan Revision

AGENCY: Shoshone National Forest, Forest Service, USDA.

ACTION: Notice of objection filing period.

SUMMARY: The Forest Service, Rocky Mountain Region, Shoshone National Forest, has prepared an Environmental Impact Statement for the Shoshone National Forest Land and Resource Management Plan. The publication date of this notice in the Federal Register initiates a 60-day period in which individuals or entities with specific concerns may file an objection for a Forest Service review. The 60-day pre-decisional objection period commences the day following the publication of the legal notice in the Denver Post, Denver, CO. The Responsible Official for the Land Management Revision is Daniel J. Jirón, Regional Forester. The Reviewing Officer is Thomas Tidwell, Chief. The Time Zone of the Reviewing Officer is Eastern Standard Time.

DATES: Comments must be received in writing on or before March 24, 2014 to be assured of consideration. Comments received after that date will be considered to the extent practicable.

FOR FURTHER INFORMATION CONTACT: John Rupe, Regional Planner—Rocky Mountain Region, at (303) 275-5148.

SUPPLEMENTARY INFORMATION: The environmental analysis document, other supporting documentation, and a draft of the Record of Decision are available for review at local public libraries and at Shoshone National Forest offices in Cody, Dubois, and Lander, and at http://www.fs.usda.gov/shoshone. Compact discs or hard copies of these documents may be requested by telephone (307) 527-6241 or email (Shoshone_forestplan@fs.fed.us). Additional information regarding this action can be obtained from Carrie Christman, Forest Planner, 808 Meadow Lane Avenue, Cody, Wyoming 82414; (307) 527-6241; cchristman@fs.fed.us. An electronic scan of the notice with the publication date will also be posted to the Web site. The publication date the notice of the beginning of an objection filing period for the plan revision in the newspaper of record before approval (36 CFR 219.16 and 219.52) is the exclusive means for calculating the time frame to file an objection. Objectors must not rely on dates or timeframe information provided by any other source (36 CFR 219.56(b)(3)).

Objection Opportunities

The objection process provides an opportunity for members of the public who have participated in opportunities for public participation provided throughout the planning process to have any unresolved concerns receive an independent review by the Forest Service prior to a final decision being made by the responsible official. Only those who provided substantive formal comments during opportunities for public comment are eligible to file an objection pursuant to regulation 36 CFR 219 subpart B which defines substantive formal comments as:

“Written comments submitted to, or oral comments recorded by, the responsible official or his designee during an opportunity for public participation provided during the planning process, and attributed to the individual or entity providing them. Comments are considered substantive when they are within the scope of the proposal, are specific to the proposal, have a direct relationship to the proposal, and include supporting reasons for the responsible official to consider.”

How To File an Objection

Mailed, emailed, faxed or hand-delivered objections concerning this action will be accepted for 60 calendar days following the publication of this notice in the newspaper of record. The publication date is the exclusive means for calculating the objection filing period. Those wishing to object should not rely upon dates or timeframe information provided by any other source. It is the responsibility of the objector to ensure that the reviewing officer receives the objection in a timely manner. The regulations prohibit extending the length of the objection filing period.

Objections must be submitted to the reviewing officer at Thomas Tidwell, Chief, USDA Forest Service, Attn: EMC—Administrative Reviews, 1400 Independence Ave. SW., Mailstop 1104, Washington, DC 20250-1104. Objections may be mailed electronically to objections-chief@fs.fed.us or by facsimile to 703.235.0138. The office business hours for those submitting hand-delivered objections are: 8 a.m.-5 p.m. Monday through Friday, excluding Federal holidays. Electronic objections must be submitted in a commonly used format such as an email message, plain text (.txt), rich text format (.rtf), or Word (.doc). In cases where no identifiable name is attached to an objection, a verification of identity will be requested confirming objection eligibility. If the objection is supported by documents, with the exceptions listed in 36 CFR 219.54(b), all documents must be provided with the objection; a bibliography is not sufficient.

At a minimum an objection must include the following (36 CFR 219.54(c)):

(1) The objector's name and address along with a telephone number or email address if available;

(2) Signature or other verification of authorship upon request (a scanned signature for electronic mail may be filed with the objection);

(3) Identification of the lead objector, when multiple names are listed on an objection. The Forest Service will communicate to all parties to an objection through the lead objector. Verification of the identity of the lead objector if requested;

(4) The name of the plan, plan amendment, or plan revision being objected to, and the name and title of the responsible official;

(5) A statement of the issues and/or the parts of the plan, plan amendment, or plan revision to which the objection applies;

(6) A concise statement explaining the objection and suggesting how the proposed plan decision may be improved. If applicable, the objector should identify how the objector believes that the plan, plan amendment or plan revision is inconsistent with law, regulation, or policy; and

(7) A statement that demonstrates the link between prior substantive formal comments attributed to the objector and the content of the objection, unless the objection concerns an issue that arose after the opportunities for formal comment.

All objections are open to public inspection and will be posted to the Forest Service Web site.

Dated: January 14, 2014.
Daniel J. Jirón,
Regional Forester, Rocky Mountain Region.

[FR Doc. 2014-01087 Filed 1-21-14; 8:45 am]

BILLING CODE 3411-15-P